COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Information and Regulatory Affairs (OIRA), of the Office of Management and Budget (OMB) for review and comment. The ICR describes the nature of the information collection and its expected costs and burdens.

DATES: Comments must be submitted on or before October 25, 2023.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR—Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (Commission or CFTC) by clicking on the “Submit Comment” box next to the descriptive entry for OMB Control No. 3038-0005, at https://comments.cftc.gov/FederalRegister/PublicInfo.aspx.

Or by either of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. You should only submit information that you wish to make available publicly. If you wish the Commission to consider information that you believe is exempt from disclosure under the Freedom of Information Act (FOIA), a petition for confidential treatment of the exempt information may be submitted according to the procedures established in § 145.9 of the Commission's regulations.¹ The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under FOIA.

¹ 17 CFR 145.9.

FOR FURTHER INFORMATION CONTACT: Amanda Olear, Director, (202) 418-6700, aolear@cftc.gov; Pamela Geraghty, Deputy Director, (202) 418-5634, pgeraghty@cftc.gov; Peter Sanchez, Acting Associate Director, (202) 418-5237, psanchez@cftc.gov; or Elizabeth Groover, Special Counsel, (202) 418-5985, egroover@cftc.gov, Market Participants Division, Commodity Futures Trading Commission, 1155 21st Street NW, Washington, DC 20581, and refer to OMB Control No. 3038-0005.

SUPPLEMENTARY INFORMATION:

Title: Rules Relating to the Operations and Activities of Commodity Pool Operators and Commodity Trading Advisors and to Monthly Reporting by Futures Commission Merchants (OMB Control No. 3038-0005). This is a request for extension of a currently approved information collection.

Abstract: The various collections of information required by part 4 of the Commission's regulations were previously approved by OMB in accordance with the PRA and assigned OMB control number 3038-0005.² The Commission offers the following summary of the renewal and the resulting impact on existing burden hour estimates associated with this information collection. The Commodity Exchange Act (CEA) empowers the Commission with the authority to require commodity pool operators (CPOs) and commodity trading advisors (CTAs) to maintain books and records and to file reports as required by the Commission.³ The Commission also has the power to promulgate such regulations as it deems necessary to implement the purposes of the CEA.⁴ It is pursuant to this authority that the Commission has promulgated the various compliance requirements for CPOs and CTAs in 17 CFR part 4. The reporting, filing, and recordkeeping requirements within part 4 of the Commission's regulations were adopted to assist and inform customers, to establish customer protection initiatives for investors, to facilitate monitoring intermediary compliance with part 4 regulations by the Commission and its delegee, the National Futures Association (NFA), and to enable the Commission to better monitor the market risks posed by its registrants. The information collections are necessary to enable the Commission and NFA to accomplish the purposes of both the CEA and the compliance regime set forth in part 4 of the Commission's regulations.

² 17 CFR part 4.

³ 7 U.S.C. 6m(3).

⁴ 7 U.S.C. 8a(5).

An agency may not conduct or sponsor, and a person is not required to respond to, a collection of information unless it displays a currently valid OMB control number. On July 12, 2023, the Commission published in the Federal Register notice of the proposed extension of this information collection and provided 60 days for public comment on the proposed extension, 88 FR 44280 (60-Day Notice). The Commission did not receive any relevant substantive comments on the 60-Day Notice.

Burden Statement: The respondent burden for this collection is estimated to be as follows:

Respondents/Affected Entities: (1) All persons filing reports required by 17 CFR part 4, and (2) all principals of such persons.

Estimated number of respondents: 49,083.

Estimated number of exempt pools/reports per respondent: 8.8.

Estimated total annual burden on respondents: 432,325 hours.

(Authority: 44 U.S.C. 3501, et seq.)

Dated: September 19, 2023.
Robert Sidman,
Deputy Secretary of the Commission.

[FR Doc. 2023-20634 Filed 9-22-23; 8:45 am]

BILLING CODE 6351-01-P